DEPARTMENT OF TRANSPORTATION

Federal Aviation Administration

14 CFR Part 39

[Docket No. 99-NM-95-AD; Amendment 39-11782; AD 2000-12-04]

RIN 2120-AA64

Airworthiness Directives; Airbus Model A319, A320, and A321 Series Airplanes

AGENCY: Federal Aviation Administration, DOT.

ACTION: Final rule.

SUMMARY: This amendment supersedes an existing airworthiness directive (AD), applicable to certain Airbus Model A320 series airplanes, that currently requires an initial inspection of fastener holes on certain outer frames of the fuselage to detect fatigue cracking, and modification of the area by cold expanding the holes and installing oversized fasteners. This amendment requires revising the applicability to include additional airplanes; a high frequency eddy current inspection to detect fatigue cracking in the frames and frame feet at fuselage frames FR37 through FR41; and follow-on actions. This amendment also provides for an optional terminating action for the follow-on repetitive inspections. This amendment is prompted by issuance of mandatory continuing airworthiness information by a foreign civil airworthiness authority. The actions specified by this AD are intended to prevent fatigue cracking of the fuselage frames and frame feet, and consequent reduced structural integrity of the fuselage.

DATES: Effective July 19, 2000.

The incorporation by reference of certain publications listed in the regulations is approved by the Director of the Federal Register as of July 19, 2000.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: A proposal to amend part 39 of the Federal Aviation Regulations (14 CFR part 39) by superseding AD 97-11-01, amendment 39-10030 (62 FR 28324, May 23, 1997), which is applicable to certain Airbus Model A320 series airplanes, was published in the Federal Register on April 5, 2000 (65 FR 17824). The action proposed to require an HFEC inspection to detect fatigue cracking in the frames and frame feet of left and right fuselage frames FR37 through FR41; and follow-on actions. The action proposed to revise the applicability to include additional airplanes. The action also proposed to allow for an optional terminating action for the follow-on repetitive inspections.

Comments Received

Interested persons have been afforded an opportunity to participate in the making of this amendment. Due consideration has been given to the comments received.

Support for the Proposal

One commenter concurs with the content of the proposed AD. Another commenter is not affected by the proposed AD and thus has no objection to its issuance.

Request To Allow Flight With Known Cracks

One commenter, an operator, requests that the proposed AD be revised to allow continued service with cracks of the frame footing or frame segment for 500 flight cycles, as allowed in Airbus Service Bulletin A320-53-1141, Revision 01, dated October 4, 1999. The commenter states that the proposed AD does not allow such relief, and this added restriction may impact its operations.

The FAA does not concur. It is the FAA's policy to require repair of known cracks prior to further flight (the FAA may make exceptions to this policy in certain cases of unusual need). This policy is based on the fact that such damaged airplanes do not conform to the FAA certificated type design and, therefore, are not airworthy until a properly approved repair is incorporated. While the FAA recognizes that repair deferrals may be necessary at times, the FAA policy is intended to minimize adverse human factors relating to the lack of reliability of long-term repetitive inspections, which may reduce the safety of the type certificated design if such repair deferrals are practiced routinely. Exceptions may be made to this policy in certain cases, if there is an unusual need for a temporary deferral, such as legitimate difficulty in acquiring parts to accomplish repairs. However, since the FAA is not aware of any unusual need for repair deferral in regard to this AD, no change is made to the final rule.

Conclusion

After careful review of the available data, including the comments noted above, the FAA has determined that air safety and the public interest require the adoption of the rule as proposed.

Cost Impact

There are approximately 198 airplanes of U.S. registry that will be affected by this AD.

The new HFEC inspection that is required by this new AD will take approximately 2 work hours per airplane to accomplish, at an average labor rate of $60 per work hour. Based on these figures, the cost impact of the requirements of this AD on U.S. operators is estimated to be $23,760, or $120 per airplane, per inspection cycle.

The cost impact figure discussed above is based on assumptions that no operator has yet accomplished any of the requirements of this AD action, and that no operator would accomplish those actions in the future if this AD were not adopted.

Should an operator elect to accomplish the optional terminating action rather than continue the repetitive inspections, it would take between 297 and 316 work hours per airplane to accomplish the inspection and modification, at an average labor rate of $60 per work hour. Required parts would cost between $40 and $5,290 per airplane. Based on these figures, the cost impact of this optional terminating action is estimated to be between $17,860 and $24,250 per airplane.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10030 (62 FR 28324, May 23, 1997), and by adding a new airworthiness directive (AD), amendment 39-11782, to read as follows:

2000-12-04 Airbus Industrie: Amendment 39-11782. Docket 99-NM-95-AD. Supersedes AD 97-11-01, Amendment 39-10030.

Applicability: Model A319, A320, and A321 series airplanes, certificated in any category; except those on which Airbus Modification 25896, 25592, or 25593, or Airbus Service Bulletin A320-53-1128, Revision 01, dated October 4, 1999, has been accomplished.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (g) of this AD. The request should include an assessment of the effect of the modification, alteration, or repair on the unsafe condition addressed by this AD; and, if the unsafe condition has not been eliminated, the request should include specific proposed actions to address it.

Compliance: Required as indicated, unless accomplished previously.

To prevent fatigue cracking of the fuselage frames and frame feet, and consequent reduced structural integrity of the fuselage, accomplish the following:

Inspection

(a) Perform a high frequency eddy current (HFEC) inspection to detect fatigue cracks in the frames and frame feet at fuselage frames FR37 through FR41, adjacent to stringer 23, at the time specified in paragraph (a)(1), (a)(2), or (a)(3), as applicable; in accordance with Airbus Service Bulletin A320-53-1141, Revision 01, dated October 4, 1999.

(1) For Configuration 01 airplanes, as identified in Airbus Service Bulletin A320-53-1141: Within 3,500 flight cycles after the effective date of this AD.

(2) For Configuration 02 airplanes, as identified in Airbus Service Bulletin A320-53-1141: Within 16,000 flight cycles after accomplishment of Airbus Service Bulletin A320-53-1025, Revision 1, dated November 24, 1994, or within 3,500 flight cycles after the effective date of this AD, whichever occurs later.

(3) For Configurations 03, 04, and 05 airplanes, as identified in Airbus Service Bulletin A320-53-1141: Prior to the accumulation of 20,000 total flight cycles, or within 3,500 flight cycles after the effective date of this AD, whichever occurs later.

Repetitive Inspections or Corrective Action(s)

(b) For Configuration 01 airplanes: If no crack is detected during the HFEC inspection required by paragraph (a) of this AD, accomplish the action specified in either paragraph (b)(1) or (b)(2) of this AD.

(1) Repeat the HFEC inspection required by paragraph (a) of this AD thereafter at intervals not to exceed 3,500 flight cycles until accomplishment of paragraph (f) of this AD. Or

(2) Prior to further flight, modify each fastener hole of the outer frame flanges of left and right fuselage frames FR37 through FR41, adjacent to stringer 23, in accordance with Airbus Service Bulletin A320-53-1141, Revision 01, dated October 4, 1999. Within 16,000 flight cycles after accomplishment of this modification, and thereafter at intervals not to exceed 3,500 flight cycles, repeat the HFEC inspection required by paragraph (a) of this AD until accomplishment of paragraph (f) of this AD.

Note 2: Airbus Service Bulletin A320-53-1141, Revision 01, dated October 4, 1999, references Airbus Service Bulletin A320-53-1025, Revision 1, dated November 24, 1994, as an additional source of information for accomplishing the modification required by paragraph (b)(2) of this AD.

Note 3: Accomplishment of the modification in accordance with Airbus Service Bulletin A320-53-1125, dated August 5, 1994, prior to the effective date of this AD, is considered acceptable for compliance with the modification requirements of paragraph (b)(2) of this AD.

(c) For Configurations 02, 03, 04, and 05 airplanes: If no crack is detected during the inspection required by paragraph (a) of this AD, repeat the HFEC inspection required by paragraph (a) of this AD thereafter at intervals not to exceed 3,500 flight cycles until accomplishment of paragraph (f) of this AD.

(d) If any crack less than 0.20 inches (5.0 mm) in length is detected during any HFEC inspection required by this AD, prior to further flight, accomplish the actions specified in either paragraph (d)(1) or (d)(2) of this AD.

(1) Repair in accordance with Airbus Service Bulletin A320-53-1141, Revision 01, dated October 4, 1999. Repeat the HFEC inspection required by paragraph (a) of this AD thereafter at intervals not to exceed 3,500 flight cycles. Or

(2) Accomplish the actions specified in paragraph (f) of this AD.

(e) If any crack is 0.20 inches (5.0 mm) or greater in length, or if more than one crack per frame side is detected during any HFEC inspection required by this AD, prior to further flight, simultaneously accomplish the actions specified in paragraphs (e)(1) and (e)(2) of this AD.

(1) Replace the frame segment and/or frame foot with a new frame segment or frame foot in accordance with Airbus Service Bulletin A320-53-1141, Revision 01, dated October 4, 1999. And

(2) Accomplish the actions specified in paragraph (f) of this AD.

Optional Terminating Action

(f) Modification of the frames and frame feet area at fuselage frames FR37 through FR41 (including the rotating probe eddy current inspection to detect cracks, fastener hole repair, installation of doublers on each frame, cold working of specified fastener holes, installation of new fasteners in the cold-worked holes, and installation of new modified system brackets), as applicable, in accordance with Airbus Service Bulletin A320-53-1128, Revision 01, including Appendix 01, dated October 4, 1999, constitutes terminating action for the requirements of this AD.

Note 4: Accomplishment of the modification in accordance with Airbus Service Bulletin A320-53-1128, including Appendix 01, dated October 3, 1997, prior to the effective date of this AD, is considered acceptable for compliance with the modification requirements of paragraph (f) of this AD.

Alternative Methods of Compliance

(g) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 5: Information concerning the existence of approved alternative methods of compliance with this AD, if any, may be obtained from the International Branch, ANM-116.

Special Flight Permits

(h) Special flight permits may be issued in accordance with sections 21.197 and 21.199 of the Federal Aviation Regulations (14 CFR 21.197 and 21.199) to operate the airplane to a location where the requirements of this AD can be accomplished.

Incorporation by Reference

(i) The actions shall be done in accordance with Airbus Service Bulletin A320-53-1141, Revision 01, dated October 4, 1999. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 6: The subject of this AD is addressed in French airworthiness directive 98-509-123(B), dated December 16, 1998.

(j) This amendment becomes effective on July 19, 2000.

Issued in Renton, Washington, on June 6, 2000.
Donald L. Riggin,
Acting Manager, Transport Airplane Directorate, Aircraft Certification Service.

[FR Doc. 00-14791 Filed 6-13-00; 8:45 am]

BILLING CODE 4910-13-P